DEPARTMENT OF THE TREASURY

Customs Service

Cancellation of Customs Broker License Due to Death of the License Holder

AGENCY: Customs Service, Department of the Treasury.

ACTION: Cancellation of license.

SUMMARY: Notice is hereby given that, pursuant to 19 CFR 111.51(a), the following individual Customs broker license has been cancelled due to death of the broker:

Name | License No. | Port name
Charlotte Patricia Gromberg | 13180 | Los Angeles
Margaret M. Goldy | 10467 | Philadelphia

Dated: August 12, 2002.
Jayson P. Ahern,
Assistant Commissioner, Office of Field Operations.

[FR Doc. 02-21113 Filed 8-19-02; 8:45 am]

BILLING CODE 4820-02-P